DEPARTMENT OF DEFENSE

Office of the Secretary

Meeting of the Panel To Review Sexual Misconduct Allegations at the U.S. Air Force Academy

AGENCY: Department of Defense.

ACTION: Notice of open meeting.

SUMMARY: The Panel to Review Sexual Misconduct Allegations at the U.S. Air Force held a public meeting to discuss and deliberate on information gathered through fact-finding, research and investigation, and testimony received during the Panel's study. The panel, chaired by former Florida Congresswoman Tillie K. Fowler, is conducting a study of the policies, management and organizational practices and cultural elements of the Air Force Academy that may have been conducive to alleged sexual misconduct, including sexual assaults and rape. A report of findings, conclusions and recommendations will be submitted to the Secretary of Defense and the Chairmen of the Senate and House Armed Services Committees upon completion of the study on September 22, 2003.

This notice is being published after the meeting took place due to administrative difficulties locating an appropriate meeting site and the short time frame Congress allowed for the Panel to complete their review and produce a final report.

DATES: Friday, September 5, 2003, 1-3 p.m.

ADDRESSES: Crowne Plaza Hotel, 1489 Jefferson Davis Hwy, Arlington, VA 22202. The meeting will be held in the large meeting room.

FOR FURTHER INFORMATION CONTACT: Contact Sheila Earle, Designated Federal Official, on 703-602-1515, ext. 110.

Dated: September 4, 2003.
Patricia L. Toppings,
Alternate OSD Federal Register, Liaison Officer, Department of Defense.

[FR Doc. 03-23007 Filed 9-9-03; 8:45 am]

BILLING CODE 5001-08-M